DEPARTMENT OF THE INTERIOR

Fish and Wildlife Service

50 CFR Part 32

Refuge-Specific Hunting and Sport Fishing Regulations

CFR Correction

§ 32.29 [Corrected]

In Title 50 of the Code of Federal Regulations, parts 18 to 199, revised as of October 1, 2011, on page 320, in § 32.29, under Savannah National Wildlife Refuge, the second paragraph A.1. is removed.

[FR Doc. 2012-23169 Filed 9-18-12; 8:45 am]

BILLING CODE 1505-01-D